DEPARTMENT OF THE INTERIOR

Bureau of Land Management

[LLIDC01000.16XL1190AF.L10100000.DF0000.241A;4500091856]

Notice of Intent To Amend the Coeur d'Alene Resource Management Plan and To Prepare an Associated Environmental Assessment

AGENCY: Bureau of Land Management, Interior.

ACTION: Notice of Intent.

SUMMARY: In compliance with the National Environmental Policy Act of 1969, as amended (NEPA), and the Federal Land Policy and Management Act of 1976, as amended (FLPMA), the Bureau of Land Management (BLM) Coeur d'Alene Field Office, Coeur d'Alene, Idaho, intends to prepare a Resource Management Plan (RMP) amendment with an associated environmental assessment (EA) and by this notice is announcing the beginning of the scoping process to solicit public comments and identify issues.

DATES: This notice initiates the public scoping process for the RMP amendment and associated EA. Comments on issues may be submitted in writing until September 22, 2016. In order to be included in the analysis, all comments must be received prior to this date.

ADDRESSES: You may submit comments on issues and planning criteria related to the Coeur d'Alene RMP amendment/EA by any of the following methods:

• Web site: http://1.usa.gov/1UCH6h6.

• Fax: 208-769-5050.

• Email: BLM_ID_CDA_RPP@blm.gov.

• Mail: BLM Coeur d'Alene Field Office, ATTN: CDA-RPP, 3815 Schreiber Way, Coeur d'Alene, Idaho 83815.

Documents pertinent to this proposal may be examined at the Coeur d'Alene Field Office at the above address during regular business hours (7:45 a.m. to 4:30 p.m.), Monday through Friday, except Federal holidays.

FOR FURTHER INFORMATION CONTACT: Janna Paronto, Realty Specialist, BLM Coeur d'Alene Field Office, 3815 Schreiber Way, Coeur d'Alene, Idaho 83815, phone 208-769-5037, email: BLM_ID_CDA_RPP@blm.gov. You can have your name added to our mailing list by contacting the BLM at the above addresses. Persons who use a telecommunications device for the deaf (TDD) may call the Federal Information Relay Service (FIRS) at 1-800-877-8339 to contact Ms. Paronto. The FIRS is available 24 hours a day, 7 days a week, to leave a message or question for Ms. Paronto. You will receive a reply during normal business hours.

SUPPLEMENTARY INFORMATION: The BLM is proposing to amend the Coeur d'Alene RMP in accordance with the FLPMA and 43 CFR 1610.5-5. The amendment would classify a 28.69-acre parcel of public land as suitable for lease or conveyance under the Recreation and Public Purposes (R&PP) Act, as amended, and specify that disposal under the Act would serve the public interest. The parcel is located in Kootenai County, Idaho, with the legal description of:

Boise Meridian, Idaho

T. 50 N., R. 4 W.,

Secs.11 and 14, tract 44 (lying north and east in portions of both sections 11 and 14).

The area described aggregates 28.69 acres.

This amendment would allow the BLM to then consider an application from the City of Coeur d'Alene for lease and conveyance of the above parcel under the R&PP Act to develop a city park. The proposed lease and conveyance will be analyzed in the same EA with the amendment.

The purpose of public scoping is to determine relevant issues that will influence the scope of the environmental analysis, including alternatives, and guide the planning process. Preliminary issues identified by BLM personnel include potential effects on cultural and historic resources, recreation and visual resources, fish and aquatic species, wildlife, and vegetation. Preliminary planning criteria for the amendment include: (a) The plan will be completed in compliance with FLPMA, NEPA, and all other relevant Federal laws, Executive Orders, and management policies of the BLM; (b) Existing planning decisions will remain unchanged unless specifically proposed to be changed; (c) The plan amendment will recognize valid existing rights; and (d) Native American tribal consultations will be conducted in accordance with policy, and tribal concerns will be given due consideration. The planning process will include the consideration of any impacts on Indian trust assets.

You may submit comments on issues and planning criteria in writing to the BLM using one of the methods listed in the ADDRESSES section above. To be most helpful, you should submit comments by the date specified in the DATES section above. The BLM will use this NEPA public participation process to help satisfy the public involvement requirements under section 106 of the National Historic Preservation Act (NHPA) (16 U.S.C. 470(f)) pursuant to 36 CFR 800.2(d)(3). The information about historic and cultural resources within the area potentially affected by the proposed action will assist the BLM in identifying and evaluating impacts to such resources in the context of both NEPA and section 106 of the NHPA.

Federal, State, and local agencies, along with Tribes and other stakeholders who may be interested in or affected by the proposed action, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so. The minutes and list of attendees for each scoping meeting that may be held will be available to the public and open for 30 days after the meeting to any participant who wishes to clarify the views he or she expressed.

The public is encouraged to identify any management questions and concerns that should be addressed in the plan under the following categories:

1. Issues to be resolved in the plan amendment;

2. Issues to be resolved through policy or administrative action; or

3. Issues beyond the scope of this plan amendment.

The BLM will provide an explanation in the Draft RMP/Draft EA as to why an issue was placed in category two or three. The BLM will work collaboratively with interested parties to identify the management decisions that are best suited to local, regional, and national needs and concerns.

The BLM will use an interdisciplinary approach to develop the plan amendment in order to consider the variety of resource issues and concerns identified. Specialists with expertise in forest management, wildlife and fisheries, archaeology and cultural resources, outdoor recreation, and realty will be involved in the planning process.

Authority: 40 CFR 1501.7 and 43 CFR 1610.2.

Dated: August 16, 2016.
Timothy M. Murphy,
BLM Idaho State Director.

[FR Doc. 2016-20095 Filed 8-22-16; 8:45 am]

BILLING CODE 4310-GG-P